DEPARTMENT OF COMMERCE

National Oceanic and Atmospheric Administration

[I.D. 042700B]

Endangered Species; Permits

AGENCY: National Marine Fisheries Service (NMFS), National Oceanic and Atmospheric Administration (NOAA), Commerce.

ACTION: Receipt of an application for a scientific research/enhancement permit (1250) and receipt of an application to modify a permit (1048).

SUMMARY: Notice is hereby given of the following actions regarding permits for takes of endangered and threatened species for the purposes of scientific research and/or enhancement:

NMFS has received a permit application from the Columbia River Inter-Tribal Fish Commission (CRITFC) at Portland, OR (1250); and NMFS has received an application for permit modifications from the Sonoma County Water Agency (SCWA) in Santa Rosa, CA (1048).

DATES: Comments or requests for a public hearing on either the new application or modification request must be received at the appropriate address or fax number (see ADDRESSES) no later than 5:00 p.m. Pacific daylight time on June 12, 2000.

ADDRESSES: Written comments on either the new application or modification request should be sent to the appropriate office as indicated below. Comments may also be sent via fax to the number indicated for the request. Comments will not be accepted if submitted via e-mail or the internet. The applications and related documents are available for review in the indicated office, by appointment:

For permit 1250: Protected Resources Division, F/NWO3, 525 NE Oregon Street, Suite 500, Portland, OR 97232-2737 (ph: 503-230-5400, fax: 503-230-5435).

For permit 1048: Protected Species Division, NMFS, 777 Sonoma Avenue, Room 325, Santa Rosa, CA 95404-6528 (ph: 707-575-6066, fax: 707-578-3435).

Documents may also be reviewed by appointment in the Office of Protected Resources, F/PR3, NMFS, 1315 East-West Highway, Silver Spring, MD 20910-3226 (301-713-1401).

FOR FURTHER INFORMATION CONTACT: For permit 1048: Dan Logan, Protected Resources Division, Santa Rosa, CA (ph: 707-575-6053, fax: 707-578-3435, e-mail: Dan.Logan@noaa.gov).

For permit 1250: Herbert Pollard, Boise, ID (ph: 208-378-5614, fax: 208-378-5699, e-mail: Herbert.Pollard@noaa.gov)

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

The following species, evolutionarily significant units (ESU's), and runs are covered in this notice:

Chinook salmon (Oncorhynchus tshawytscha): threatened Snake River (SnR) spring/summer, threatened SnR fall.

Coho salmon (Oncorhynchus kisutch): threatened Central California Coast (CCC).

Sockeye salmon (Oncorhynchus nerka): endangered SnR.

Steelhead (Oncorhynchus mykiss): threatened CCC, threatened SnR.

To date, protective regulations for threatened SnR steelhead under section 4(d) of the ESA have not been promulgated by NMFS. Protective regulations are currently proposed for threatened CCC and SnR steelhead (64 FR 73479, December 30, 1999). This notice of receipt of applications requesting takes of these species is issued as a precaution in the event that NMFS issues final protective regulations. The initiation of a 30-day public comment period on the applications, including their proposed takes of CCC or SnR steelhead, does not presuppose the contents of the eventual final protective regulations.

New Application Received

CRITFC (1250) requests a 5-year permit that would authorize annual takes of adult and juvenile naturally produced and artificially propagated SnR spring/summer chinook salmon associated with a hatchery supplementation program at Johnson Creek (JoCr), a tributary of the South Fork Salmon River in Idaho. The primary goal of CRITFC's proposed hatchery supplementation program is to forestall the extinction of the summer chinook salmon population in JoCr and to avoid further losses of the genetic variation that may be necessary to recover the stock. The objectives of CRITFC's program are to: (1) Establish an annual supply of chinook salmon broodstock capable of meeting annual supplementation production criteria, (2) maintain and restore natural spawning populations of chinook salmon in JoCr, (3) increase the species' chances for long-term survival by supplementing the natural production of chinook salmon in JoCr with hatchery-produced fish, (4) increase nutrient enrichment in JoCr, and (5) ultimately reestablish sport and tribal fisheries for chinook salmon in the Salmon River Basin. ESA-listed adult chinook salmon that return to the watershed each year are proposed to be captured at the JoCr weir, anesthetized, marked with external identifiers, and maintained in holding ponds for up to 24 hours. CRITFC proposes to retain a percentage of the ESA-listed adult chinook salmon that return to the weir each year for hatchery broodstock and to release all of the ESA-listed adult chinook salmon not retained for broodstock above the weir to spawn naturally. ESA-listed adult chinook salmon retained for broodstock are proposed to be transferred to adult holding ponds at the Idaho Department of Fish and Game's McCall Fish Hatchery or adjacent to the JoCr weir, inoculated for diseases, and spawned. The resulting progeny are proposed to be reared in the hatchery, tagged and/or marked with identifiers (coded wires, visual implant elastomer tags, passive integrated transponders), and released as smolts in the JoCr watershed where they will be allowed to acclimate prior to their volitional emigration to the ocean. Annual incidental takes of SnR sockeye salmon, SnR fall chinook salmon, and SnR steelhead associated with annual releases of juvenile fish from the program are also requested.

Modification Request Received

SCWA requests a modification to permit 1048 for takes of adult and juvenile CCC steelhead associated with population studies, carcass counts, redd surveys, genetic analyses, and habitat quality evaluation. SCWA proposed to develop and implement a monitoring program to identify long-term population trends and stock size estimates that can be used to assist in the restoration of salmonid populations in the Russian River basin. Presently, permit 1048 authorizes intentional takes of adult and juvenile CCC coho salmon for projects within the Russian River basin. This requested modification would add intentional takes of adult and juvenile CCC steelhead to the SCWA permit.

Dated: May 3, 2000.
Wanda L. Cain,
Chief, Endangered Species Division, Office of Protected Resources, National Marine Fisheries Service.

[FR Doc. 00-11875 Filed 5-10-00; 8:45 am]

BILLING CODE 3510-22-F